DEPARTMENT OF ENERGY

Federal Energy Regulatory Commission

Combined Notice Of Filings #1

Take notice that the Commission received the following electric corporate filings:

Docket Numbers: EC16-19-000.

Applicants: Calpine Granite Holdings, LLC, Granite Ridge Energy, LLC.

Description: Joint Application of Calpine Granite Holdings, LLC and Granite Ridge Energy, LLC for Approval under Section 203 of the Federal Power Act and Request for Shortened Comment Period.

Filed Date: 10/27/15.

Accession Number: 20151027-5317.

Comments Due: 5 p.m. ET 11/17/15.

Docket Numbers: EC16-20-000.

Applicants: Latigo Wind Park, LLC.

Description: Application for Authorization Under Section 203 of the Federal Power Act, Request for Expedited Consideration and Confidential Treatment of Latigo Wind Park, LLC.

Filed Date: 10/28/15.

Accession Number: 20151028-5135.

Comments Due: 5 p.m. ET 11/18/15.

Take notice that the Commission received the following electric rate filings:

Docket Numbers: ER15-1875-002.

Applicants: California Independent System Operator Corporation.

Description: Compliance filing: 2015-10-27 Limited Tariff Waiver Petition to Modify CCE2 Effective Date to be effective N/A.

Filed Date: 10/27/15.

Accession Number: 20151027-5280.

Comments Due: 5 p.m. ET 11/17/15.

Docket Numbers: ER15-1919-003.

Applicants: California Independent System Operator Corporation.

Description: Compliance filing: 2015-10-27 Limited Tariff Waiver Petition to Modify EIM Year 1 Effective Date to be effective N/A.

Filed Date: 10/27/15.

Accession Number: 20151027-5278.

Comments Due: 5 p.m. ET 11/17/15.

Docket Numbers: ER15-2059-001.

Applicants: New York Independent System Operator, Inc.

Description: Tariff Amendment: Deficiency response and refiling of OATT PPTPP tariff revisions to be effective 12/26/2015.

Filed Date: 10/27/15.

Accession Number: 20151027-5261.

Comments Due: 5 p.m. ET 11/17/15.

Docket Numbers: ER15-2204-002.

Applicants: California Independent System Operator Corporation.

Description: Compliance filing: 2015-10-27 Limited Tariff Waiver Petition to Modify ETC-TOR Effective Date to be effective N/A.

Filed Date: 10/27/15.

Accession Number: 20151027-5281.

Comments Due: 5 p.m. ET 11/17/15.

Docket Numbers: ER16-150-000.

Applicants: Northern States Power Company, a Minnesota corporation, Northern States Power Company, a Wisconsin corporation.

Description: Notice of Cancellation of Rate Schedules 434, 398, 451, and 84 of Northern States Power Company, a Minnesota corporation, et al.

Filed Date: 10/27/15.

Accession Number: 20151027-5315.

Comments Due: 5 p.m. ET 11/17/15.

Docket Numbers: ER16-151-000.

Applicants: Southwest Power Pool, Inc.

Description: § 205(d) Rate Filing: 2236R6 Golden Spread Electric Cooperative, Inc. NITSA/NOA to be effective 10/1/2015.

Filed Date: 10/28/15.

Accession Number: 20151028-5113.

Comments Due: 5 p.m. ET 11/18/15.

Docket Numbers: ER16-152-000.

Applicants: Southwest Power Pool, Inc.

Description: § 205(d) Rate Filing: Section 39.3 Revisions to allow Western-RMR's Continued Market Participation to be effective 10/1/2015.

Filed Date: 10/28/15.

Accession Number: 20151028-5121.

Comments Due: 5 p.m. ET 11/18/15.

Docket Numbers: ER16-153-000.

Applicants: Duke Energy Carolinas, LLC.

Description: § 205(d) Rate Filing: NCMPA1 RS 318 Amendment (2016) to be effective 12/31/2015.

Filed Date: 10/28/15.

Accession Number: 20151028-5218.

Comments Due: 5 p.m. ET 11/18/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

DATED: October 28, 2015.
Nathaniel J. Davis, Sr.,
Deputy Secretary.

[FR Doc. 2015-27975 Filed 11-2-15; 8:45 am]

BILLING CODE 6717-01-P